COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be furnished by a nonprofit agency employing persons who are blind or have other severe disabilities, and deletes products and services previously furnished by such agencies.

DATES: Comments must be received on or before: January 13, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from a nonprofit agency employing persons who are blind or have other severe disabilities.

The following service is proposed for addition to the Procurement List for production by the nonprofit agency listed:

Service

Service Type: Mailroom Operation Service

Mandatory for: U.S. Air Force, Official Mail Center, Cannon AFB 502 S Aderholt Loop, Cannon AFB, NM

Mandatory Source of Supply: ENMRSH, Inc., Clovis, NM

Contracting Activity: Dept of the Air Force, FA4855 27 SOCONS LGC

Deletions

The following products and services are proposed for deletion from the Procurement List:

Products

NSN(s)—Product Name(s): 7510-01-600-8037—Dated 2018 12-Month 2-Sided Laminated Wall Planner, 24″ x 37″

Mandatory Source of Supply: Chicago Lighthouse Industries, Chicago, IL

Contracting Activity: GSA/FAS Furniture Systems Mgt. Div., Philadelphia, PA

NSN(s)—Product Name(s): 8305-00-205-3558—Cheesecloth, Remnants, White, 50 lbs

Mandatory Source of Supply: Lions Services, Inc., Charlotte, NC

Contracting Activity: GSA/FSS Greater Southwest Acquisiti, Fort Worth, TX

Services

Service Type: Janitorial/Custodial Service

Mandatory for:

U.S. Federal Building: 600 Broad Street, Gadsden, AL

Social Security Administration Building 201 College Street, Gadsen, AL

U.S. Federal Building and Courthouse: Maine and Watson, Centre, AL

Mandatory Source of Supply: Alabama Goodwill Industries, Inc., Birmingham, AL

Contracting Activity: Public Buildings Service, Acquisition Division/Services Branch

Service Type: Document Destruction Service

Mandatory for: USDA, APHIS, 100 North Sixth Street, Butler Square, Minneapolis, MN

Mandatory Source of Supply: AccessAbility, Inc., Minneapolis, MN

Contracting Activity: Animal and Plant Health Inspection Service, USDA APHIS MRPBS

Service Type: Janitorial/Custodial Service

Mandatory for: U.S. Army Reserve Center: 1101 W Central Avenue, Bldgs 104-109, 140, 141, 144 and 145, Arlington Heights, IL

Mandatory Source of Supply: Clearbrook Center, Inc., Arlington Heights, IL

Contracting Activity: Dept. of the Army, W6QM MICC FT MCCOY (RC)

Service Type: Janitorial/Custodial Service

Mandatory for: Norfolk Naval Base: Navy Commissary Stores, Norfolk, VA

Mandatory Source of Supply: PRIDE Industries, Roseville, CA

Contracting Activity: Dept. of the Navy, U.S. Fleet Forces Command

Service Type: Administrative Service

Mandatory for: U.S. Army Medical Command, Health Care Acquisition Activity, Small Business Office, 2199 Storage Street, JBSA Fort Sam Houston, TX

Mandatory Source of Supply: Goodwill Industries of San Antonio Contract Services, San Antonio, TX

Contracting Activity: Dept. of the Army, W40M USA MEDCOM HCAA

Service Type: Janitorial/Custodial Service

Mandatory for: Illinois Air National Guard: 182nd Airlift Wing, 2416 South Falcom Blvd., Peoria, IL

Mandatory Source of Supply: Community Workshop and Training Center, Inc., Peoria, IL

Contracting Activity: Dept. of the Army, W7M6 USPFO Activity IL ARNG

Michael R. Jurkowski,
Deputy Director, Business & PL Operations, Business Operations.

[FR Doc. 2018-27146 Filed 12-13-18; 8:45 am]

BILLING CODE 6353-01-P